DEPARTMENT OF STATE

[Public Notice 11307]

Review of the Designations as Foreign Terrorist Organizations of Lashkar-e-Tayyiba (and Other Aliases); Jaysh Rijal al-Tariq al Naqshabandi (and Other Aliases); Jama'atu Ansarul Muslimina Fi Biladis-Sudan (Ansaru and Other Aliases); Harakat ul-Mujahidin (and Other Aliases); al-Nusrah Front (and Other Aliases); Popular Front for the Liberation of Palestine (and Other Aliases); Continuity Irish Republican Army (and Other Aliases); and the National Liberation Army (and Other Aliases)

Based upon a review of the Administrative Records assembled pursuant to Section 219(a)(4)(C) of the Immigration and Nationality Act, as amended (8 U.S.C. 1189(a)(4)(C)) (“INA”), and in consultation with the Attorney General and the Secretary of the Treasury, I conclude that the circumstances that were the bases for the designations of the aforementioned organizations as Foreign Terrorist Organizations have not changed in such a manner as to warrant revocation of the designations and that the national security of the United States does not warrant a revocation of the designations.

Therefore, I hereby determine that the designations of the aforementioned organizations as Foreign Terrorist Organizations, pursuant to Section 219 of the INA (8 U.S.C. 1189), shall be maintained.

This determination shall be published in the Federal Register.

Dated: December 22, 2020.
Michael R. Pompeo,
Secretary of State.

[FR Doc. 2021-00619 Filed 1-13-21; 8:45 am]

BILLING CODE 4710-AD-P